DEPARTMENT OF STATE

[Public Notice: 6504]

Notice of Request for Public Comments

Title: 30-Day Notice of Proposed Information Collection: Form DS-0064, Statement Regarding a Lost or Stolen Passport, 1405-0014.

ACTION: Notice of request for public comment and submission to OMB of proposed collection of information.

SUMMARY: The Department of State has submitted the following information collection request to the Office of Management and Budget (OMB) for approval in accordance with the Paperwork Reduction Act of 1995.

• Title of Information Collection: Statement Regarding a Lost or Stolen Passport.

• OMB Control Number: 1405-0014.

• Type of Request: Revision of a Currently Approved Collection.

• Originating Office: CA/PPT/FO/FC.

• Form Number: DS-0064.

• Respondents: Individuals or Households.

• Estimated Number of Respondents: 122,500.

• Estimated Number of Responses: 122,500.

• Average Hours per Response: 5 minutes.

• Total Estimated Burden: 10,208 hours.

• Frequency: On occasion.

Obligation to Respond: Required to Obtain a Benefit.

DATES: Submit comments to the Office of Management and Budget (OMB) for up to 30 days from February 3, 2009.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974

FOR FURTHER INFORMATION CONTACT: You may obtain copies of the proposed information collection and supporting documents from Andrina Agnew, U.S. Department of State, CA/PPT/FO/FC, 2100 Pennsylvania Ave., NW., Suite 3040, SA-29, Washington, DC 20037, who may be reached on 202-663-2445 or at agnewam@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection:The form is used prior to passport issuance and solicits information relating to the loss or theft of a valid U.S. passport. The information is used by the United States Department of State to ensure that no person shall bear more than one valid or potentially valid U.S. passport book and passport card at any one time, except as authorized by the Department, and is also used to combat passport fraud and misuse.

Methodology:This form is used in conjunction with the Form DS-11, Application for a U.S. Passport, or submitted separately to report loss or theft of a U.S. passport. Passport Services collects the information when a U.S. citizen or non-citizen national applies for a new U.S. passport and has been issued a previous, still valid U.S. passport that has been lost or stolen, or when a passport holder independently reports it lost or stolen. Passport applicants can either download the form from the Internet or pick one up at any Passport Agency or Acceptance Facility.

Dated: January 23, 2009.
Brenda S. Sprague,
Deputy Assistant Secretary for Passport Services, Bureau of Consular Affairs, Department of State.

[FR Doc. E9-2256 Filed 2-2-09; 8:45 am]

BILLING CODE 4710-06-P